DEPARTMENT OF COMMERCE

International Trade Administration

[A-533-809, A-583-821]

Continuation of Antidumping Duty Orders: Forged Stainless Steel Flanges from India and Taiwan

AGENCY: Import Administration, International Trade Administration, Department of Commerce.

SUMMARY: As a result of the determinations by the Department of Commerce (the Department) and the International Trade Commission (the Commission) that revocation of these antidumping duty orders would be likely to lead to continuation or recurrence of dumping and material injury to an industry in the United States, pursuant to section 751(c) of the Tariff Act of 1930, as amended (the Act), the Department hereby orders the continuation of the antidumping duty orders on forged stainless steel flanges (flanges) from India and Taiwan. The Department is publishing notice of the continuation of these antidumping duty orders.

EFFECTIVE DATE: December 29, 2005

FOR FURTHER INFORMATION CONTACT: Deborah L. Scott or Robert James, Office 7, Import Administration, International Trade Administration, U.S. Department of Commerce, 14th Street and Constitution Ave., NW., Washington, DC 20230; telephone: (202) 482-2657 or 482-0649, respectively.

SUPPLEMENTARY INFORMATION:

Background

On July 1, 2005, the Department initiated and the Commission instituted sunset reviews of the antidumping duty orders on flanges from India and Taiwan pursuant to section 751(c) of the Act. See Initiation of Five-year (Sunset) Reviews, 70 FR 38101 (July 1, 2005), and Forged Stainless Steel Flanges From India and Taiwan, 70 FR 38195 (July 1, 2005). As a result of its review, the Department found that revocation of the antidumping duty orders would likely lead to continuation or recurrence of dumping and notified the Commission of the magnitude of the margins likely to prevail were the orders to be revoked. See Forged Stainless Steel Flanges from India and Taiwan; Expedited Five-year (Sunset) Reviews of the Antidumping Duty Orders; Final Results, 70 FR 67137 (November 4, 2005).

On December 7, 2005, the Commission determined, pursuant to section 751(c) of the Act, that revocation of the antidumping duty orders on flanges from India and Taiwan would likely lead to continuation or recurrence of material injury to an industry in the United States within a reasonably foreseeable time. See Forged Stainless Steel Flanges from Taiwan, 70 FR 76074 (December 22, 2005), and USITC Publication 3827 (December 2005) (Investigations Nos. 731-TA-639 and 640 (Second Review)).

Scope of the Orders

The products covered by these orders are certain forged stainless steel flanges, both finished and not finished, generally manufactured to specification ASTM A-182, and made in alloys such as 304, 304L, 316, and 316L. The scope includes five general types of flanges. They are weld-neck, used for butt-weld line connections; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of these orders are cast stainless steel flanges. Cast stainless steel flanges generally are manufactured to specification ASTM A-351. The flanges subject to these orders are currently classifiable under subheadings 7307.21.1000 and 7307.21.5000 of the Harmonized Tariff Schedule of the United States (HTSUS). Although the HTSUS subheading is provided for convenience and customs purposes, the written description of the merchandise under review is dispositive of whether or not the merchandise is covered by the scope of the orders.

Determination

As a result of the determinations by the Department and the Commission that revocation of these antidumping duty orders would be likely to lead to continuation or recurrence of dumping and material injury to an industry in the United States, pursuant to section 751(d)(2) of the Act, the Department hereby orders the continuation of the antidumping duty orders on flanges from India and Taiwan.

U.S. Customs and Border Protection will continue to collect antidumping duty deposits at the rates in effect at the time of entry for all imports of subject merchandise from all manufacturers and exporters of flanges from India and Taiwan, except Viraj Forgings, Ltd., for which the order on flanges from India was revoked. The effective date of the continuation for these orders is December 29, 2005. Pursuant to section 751(c)(2) of the Act, the Department intends to initiate the next five-year review of these antidumping orders not later than December 2010.

These sunset reviews and this continuation notice are in accordance with section 751(c) of the Act and published pursuant to 777(i) of the Act.

Dated: January 17, 2006.
David M. Spooner,
Assistant Secretary for Import Administration.

[FR Doc. E6-724 Filed 1-20-06; 8:45 am]

BILLING CODE 3510-DS-S